DEPARTMENT OF TRANSPORTATION

Federal Aviation Administration

Eighteenth Meeting: RTCA Special Committee 216: Aeronautical Systems Security (Joint Meeting With EUROCAE WG-72)

AGENCY: Federal Aviation Administration (FAA), U.S. Department of Transportation (DOT).

ACTION: Notice of RTCA Special Committee 216: Aeronautical Systems Security (Joint meeting with EUROCAE WG-72).

SUMMARY: The FAA is issuing this notice to advise the public of the eighteenth meeting of RTCA Special Committee 216: Aeronautical Systems Security (Joint meeting with EUROCAE WG-72).

DATES: The meeting will be held February 14-17, 2012, from 9 a.m.—5 p.m.

ADDRESSES: The meeting will be held at GE Aviation, Gateway Office, 3925 Gateway Centre Blvd., Suite 100, Pinellas Park, Florida 33872.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 216, Aeronautical Systems Security (Joint meeting with EUROCAE WG-72). The agenda will include the following:

February 14, 2012

• Welcome, Introductions, and Administrative Remarks

• Agenda Overview and Approval

• Split Plenary Session (9:15 a.m.—12 p.m.) SC 216

• Review of the Summary of the 18th meeting held October 25-28, 2011

• RTCA Specific Publication Progress and Update

• Subgroup and Action Item Reports

• PMC update/TOR Proposal for schedule and deliverable

• Split Plenary Session (9:15 a.m.—12 p.m.) WG-72

• Introduction, Report about publications and relations

• EUROCAE Document Discussions, e.g. Glossary publication, Parts & Volumes rules

• WG-72 specific concerns

• Status of cooperation: TC377/WG1

• Status of liaison: ECAC

• Joint Plenary Session

• Reports on editorial status of document (ED-202A/DO-326A, ED-203/DO-xx3, ED-204/DO-xx4)

• Status of liaisons: ICAO, TC377/WG1, SAE S-18

• Schedule/Document plan & Working Group assignments

• Subgroup meetings/breakouts

February 16, 2012

• Subgroup meetings/breakouts

February 17, 2012

• Subgroup meetings/breakouts

• Joint Plenary Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 5, 2012.
John Raper,
Manager, Business Operations Branch, Federal Aviation Administration.

[FR Doc. 2012-544 Filed 1-13-12; 8:45 am]

BILLING CODE 4910-13-P